ENVIRONMENTAL PROTECTION AGENCY

40 CFR Part 52

[EPA-R03-OAR-2025-2532; FRL-13045-01-R3]

Air Plan Approval; Maryland; Clean Data Determination for the Baltimore, MD Nonattainment Area for the 2015 Ozone National Ambient Air Quality Standards

AGENCY: Environmental Protection Agency (EPA).

ACTION: Proposed rule.

SUMMARY: The Environmental Protection Agency (EPA) is proposing to determine that the Baltimore, Maryland nonattainment area (the Baltimore Area or the Area) has clean data for the 2015 8-hour ozone national ambient air quality standards (2015 ozone NAAQS or standard). This proposed clean data determination (CDD) under the EPA's Clean Data Policy is based upon quality-assured, quality-controlled, and certified ambient air quality monitoring data showing that the Baltimore Area has attained the 2015 ozone NAAQS based on 2022-2024 data available in the EPA Air Quality System (AQS) database. If finalized, this proposed CDD would suspend the obligations of the State of Maryland (MD) to submit certain attainment area planning requirements for as long as the Baltimore Area continues to attain the 2015 ozone NAAQS. As part of this rulemaking, the EPA also proposes to take final agency action on portions of exceptional events requests submitted by MD on February 2, 2024 and concurred on by the EPA on November 12, 2025. The proposed CDD is based upon the EPA's concurrence on portions of the exceptional events demonstrations. This action is being taken under the Clean Air Act (CAA).

DATES: Written comments must be received on or before February 23, 2026.

ADDRESSES: Submit your comments, identified by Docket ID No. EPA-R03-OAR-2025-2532 at www.regulations.gov, or via email to gordon.mike@epa.gov. For comments submitted at Regulations.gov, follow the online instructions for submitting comments. Once submitted, comments cannot be edited or removed from Regulations.gov. For either manner of submission, the EPA may publish any comment received to its public docket. Do not submit electronically any information you consider to be confidential business information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit www.epa.gov/dockets/commenting-epa-dockets.

FOR FURTHER INFORMATION CONTACT: Ian Neiswinter, Planning & Implementation Branch (3AD30), Air & Radiation Division, U.S. Environmental Protection Agency, Region III, 1600 John F. Kennedy Boulevard, Philadelphia, Pennsylvania 19103. The telephone number is (215) 814-2011. Mr. Neiswinter can also be reached via electronic mail at neiswinter.ian@epa.gov.

SUPPLEMENTARY INFORMATION: Throughout this document, wherever “we,” “us” or “our” are used, it is intended to refer to the EPA.

I. Background

On October 26, 2015 (80 FR 65292), the EPA promulgated a revised primary and secondary ozone NAAQS to provide requisite increased protection of public health and welfare, respectively. In that action, the EPA strengthened both standards from 0.075 parts per million (ppm) to 0.070 ppm and retained the indicator (ozone), averaging time (8-hour), and form (annual fourth-highest daily maximum, averaged over three years) of the existing standards. Effective August 3, 2018 (83 FR 25776, June 4, 2018), the EPA designated 52 areas throughout the country as nonattainment for the 2015 ozone NAAQS, including the Baltimore Area,¹ which was classified as a Marginal nonattainment area. This designation was based on quality-assured, quality-controlled, and certified air quality monitoring data from calendar years 2014-2016. The EPA established the attainment date for Marginal 2015 ozone NAAQS nonattainment areas as 3 years from the effective date of the final designations, meaning the Baltimore Area had an attainment date of August 3, 2021.²

¹ The Baltimore Area consists of the following counties/cities: Anne Arundel County, Baltimore County, Carroll County, Harford County, Howard County, and the City of Baltimore in Maryland. See 40 Code of Federal Regulation (CFR) 81.321.

² See 83 FR 10376 (March 9, 2018) and 40 CFR 51.1303(a).

Effective November 7, 2022 (87 FR 60897, October 7, 2022), the EPA determined that 22 Marginal areas or portions of areas failed to attain the standard ³ by the applicable Marginal attainment date, including the Baltimore Area. In that action, the EPA reclassified the Baltimore Area as Moderate nonattainment for the 2015 ozone NAAQS because it failed to attain the standard by the attainment date of August 3, 2021. That designation was based on quality-assured, quality-controlled, and certified ambient air monitoring data from calendar years 2018-2020. In that same action, the EPA established the Moderate attainment date as August 3, 2024.⁴

³ Because the 2015 primary and secondary NAAQS for ozone are identical, for convenience, the EPA refers to them in the singular as “the 2015 ozone NAAQS” or as “the standard.”

⁴ See 87 FR 60897 (October 7, 2022).

On July 18, 2024, MD requested that the EPA reclassify the Baltimore Area from Moderate to Serious. On August 1, 2024 (89 FR 62663), the EPA approved MD's reclassification request from Moderate to Serious under CAA section 181(b)(3), which provides for “voluntary reclassification”. Because of that action, the Baltimore Area must now attain the 2015 ozone NAAQS as expeditiously as practicable, but no later than nine years from the date of the initial designation as nonattainment, i.e., August 3, 2027.

On February 2, 2024 the Maryland Department of the Environment (MDE), on behalf of MD, submitted three exceptional events (EE) demonstrations to show that the ozone concentration at certain MD monitors on June 2, June 29-30, and July 17-18, 2023 were influenced by wildfire smoke events originating in Canada and/or the United States.⁵ On May 6, 2025, MDE provided additional information for the June 2, 2023 demonstration. On November 12, 2025, the EPA concurred on portions of the June 2, June 29-30, and July 17-18, 2023 EE demonstrations. Ambient air monitoring data from 2022 to 2024, which pursuant to the EPA's concurrence on portions of the three MDE EE demonstrations now excludes exceptional event influenced monitor days, indicates that the Baltimore Area has attained the 2015 ozone NAAQS. The EPA's Exceptional Events Rule and MDE's EE demonstrations are discussed in more detail in section II of this document. Three separate Technical Support Documents (TSDs) detailing the EPA's rationale for concurring with portions of MDE's EE demonstrations are included in the docket for this action.

⁵ Maryland submitted two additional EE demonstrations for which the EPA is not currently taking agency action on in this proposed rulemaking.

II. Exceptional Events Demonstration

Congress has recognized that it may not be appropriate for the EPA to use certain monitoring data collected by the ambient air quality monitoring network and maintained in the EPA's AQS database in certain regulatory determinations. Thus, in 2005, Congress provided the statutory authority for the exclusion of data influenced by “exceptional events” meeting specific criteria by adding section 319(b) to the CAA and granted the EPA with the authority to propose regulations to review and manage air quality monitoring data influenced by exceptional events.⁶

⁶ Under CAA section 319(b), an exceptional event means an event that: (i) affects air quality; (ii) is not reasonably controllable or preventable; (iii) is an event caused by human activity that is unlikely to recur at a particular location or a natural event; and (iv) is determined by the EPA under the process established in regulations promulgated by the EPA in accordance with section 319(b)(2) to be an exceptional event. For the purposes of section 319(b), an exceptional event does not include: (i) stagnation of air masses or meteorological inversions; (ii) a meteorological event involving high temperatures or lack of precipitation; or (iii) air pollution relating to source noncompliance.

On March 22, 2007 (72 FR 13560), the EPA promulgated the 2007 Exceptional Events Rule in order to implement this 2005 CAA amendment. The 2007 Exceptional Events Rule created a regulatory process codified at 40 Code of Federal Regulations (CFR) parts 50 and 51 (sections 50.1, 50.14, and 51.930). These regulatory sections, which superseded the EPA's previous guidance on handling data influenced by exceptional events, contain definitions, procedural requirements, requirements for air agency demonstrations, criteria for the EPA's approval of the exclusion of event-affected air quality data from the data set used for regulation decisions, and requirements for air agencies to take appropriate and reasonable actions to protect public health from exceedances and violations of the NAAQS. On October 3, 2016 (81 FR 68216), the EPA promulgated a comprehensive revision to the 2007 Exceptional Events Rule.

The 2016 Exceptional Events Rule revision included the requirement that, if a state demonstrates to the Administrator's satisfaction that emissions from a wildfire smoke event cause a specific air pollution concentration in excess of the NAAQS at a particular air quality monitoring location and otherwise satisfies the requirements of 40 CFR 50.14, the EPA must exclude that data from use in determinations of exceedances and violations.⁷

⁷ 40 CFR 50.14(b)(4).

The CAA provides for the exclusion of air quality monitoring data from design value (DV) ⁸ calculations when there are NAAQS exceedances caused by events, such as wildfires, that meet the criteria for an exceptional event identified in CAA section 319(b) and in the EPA's Exceptional Events Rule at 40 CFR 50.1, 50.14, and 51.930. For the purposes of this proposed action, on February 2, 2024 MDE, on behalf of MD, submitted three EE demonstrations to show that the ozone concentration at certain MD monitors on June 2, June 29-30, and July 17-18, 2023 were influenced by wildfire smoke events originating in Canada and/or the United States. On May 6, 2025 MDE provided additional information for the June 2, 2023 demonstration.

⁸ A design value (DV) is a statistic used to compare data collected at an ambient air quality monitoring site to the applicable NAAQS to determine compliance with the standard. The DV for the 2015 ozone NAAQS is the 3-year average of the annual fourth highest daily maximum 8-hour average ozone concentration. The DV is calculated for each air quality monitor in an area, and the DV for an area is the highest DV among the individual monitoring sites located in the area.

The EPA found that MDE's June 2, June 29-30, and July 17-18, 2023 demonstrations met the Exceptional Events Rule criteria and determined that monitoring data impacted by wildfire smoke had regulatory significance for purposes of calculating the Baltimore Area's most recent DV (2022-2024 monitoring data). The removal of this exceptional event-impacted data, consistent with the CAA and the implementing regulations, supports a CDD for the 2015 ozone NAAQS. As such, the EPA proposes to take final regulatory action on the concurred dates, summarized in Table 1 of this action and detailed in the docket, and remove from the dataset used for regulatory purposes those monitor days that the EPA concurred on as influenced by an exceptional event consistent with CAA section 319(b) and the implementing regulations.⁹

⁹ At this time, the EPA defers action on other monitor-days included in the June 29-30 and July 17-18 demonstrations, details of which are included in the EPA's TSDs and associated letter included in the docket for this action.

Table 1—EPA Decisions for Exceptional Events Exclusion
EPA decision | Location | Site name | AQS ID | Event date
Concur | Harford County | Aldino | 24-025-9001 | June 2, 2023.
Concur | Harford County | Edgewood | 24-025-1001 | June 2, 2023.
Concur | Baltimore County | Essex | 24-005-3001 | June 2, 2023.
Concur | Baltimore County | Essex | 24-005-3001 | June 29, 2023.
Concur | Harford County | Aldino | 24-025-9001 | June 29, 2023.
Concur | Harford County | Edgewood | 24-025-1001 | June 29, 2023.
Concur | Anne Arundel County | Glen Burnie | 24-003-1003 | June 29, 2023.
Concur | Baltimore City | Lake Montebello | 24-510-5253 | June 29, 2023.
Concur | Baltimore County | Padonia | 24-005-1007 | June 29, 2023.
Concur | Carroll County | South Carroll | 24-013-0001 | June 29, 2023.
Concur | Harford County | Aldino | 24-025-9001 | June 30, 2023.
Concur | Harford County | Aldino | 24-025-9001 | July 17, 2023.
Concur | Harford County | Edgewood | 24-025-1001 | July 17, 2023.
Concur | Baltimore County | Essex | 24-005-3001 | July 17, 2023.
Concur | Baltimore City | Lake Montebello | 24-510-5253 | July 17, 2023.

The rationale of the EPA's exceptional events proposal is detailed in the docket. For this proposed action, the EPA will rely on the calculated design values that exclude the exceptional event-influenced data for the purpose of demonstrating attainment of the 2015 ozone NAAQS. Further details on MDE's analysis and the EPA's determination, including the exceptional events initial notification, exceptional events demonstration, and the EPA's response to the initial notification can be found in the docket for this regulatory action.

While the EPA has concurred on portions of MDE's request to exclude exceptional event-influenced air quality monitoring data from regulatory decisions, these regulatory actions require the EPA to provide an opportunity for public comment on the claimed exceptional events and all supporting data prior to the EPA taking final agency action. This proposed action provides the public with an opportunity to comment on the claimed exceptional events, all supporting documents, and the EPA's concurrence on MDE's request.

III. The EPA's Clean Data Policy and Clean Data Determination

Following the enactment of the CAA Amendments of 1990, the EPA discussed its interpretation of the requirements for implementing the NAAQS in the “General Preamble for the Implementation of title I of the CAA Amendments of 1990” (General Preamble).¹⁰ In 1995, based on the interpretation of CAA sections 171, 172, and 182 in the General Preamble, the EPA set forth what has become known as its “Clean Data Policy” for the 1-hour ozone NAAQS.¹¹ Under the Clean Data Policy, for a nonattainment area that can demonstrate attainment of the standard before implementing CAA nonattainment measures, the EPA interprets the requirements of the CAA that are specifically designed to help an area achieve attainment, including attainment demonstrations, implementation of reasonably available control measures (RACM), reasonable further progress (RFP) demonstrations, emissions limitations and control measures as necessary to provide for attainment, and contingency measures, to be suspended for so long as air quality continues to meet the standard.¹²

¹⁰ 57 FR 13498, 13564 (April 16, 1992).

¹¹ See Memorandum from John S. Seitz, Director, Office of Air Quality Planning and Standards, entitled, “Reasonable Further Progress, Attainment Demonstration, and Related Requirements for Ozone Nonattainment areas Meeting the Ozone National Ambient Air Quality Standard,” dated May 10, 1995. (1995 John S. Seitz Memo). Further description of the EPA's Clean Data Policy can be found in the “Final Rule to Implement the 8-hour Ozone National Ambient Air Quality Standard—Phase 2” (referred to as the Phase 2 Final Rule), (70 FR 71612, November 29, 2005). The EPA embodied the Clean Data Policy for the 2015 ozone NAAQS in the final rule “Implementation of the 2015 National Ambient Air Quality Standards for Ozone: Nonattainment Area State Implementation Plan Requirements”, (83 FR 62998, December 6, 2018). See 40 CFR 52.1318. The Tenth, Seventh, and Ninth Circuit U.S. District Courts have upheld the EPA rulemakings applying the Clean Data Policy. See Sierra Club v. EPA, 99 F. 3d 1551 (10th Cir. 1996); Sierra Club v. EPA, 375 F. 3d 537 (7th Cir. 2004); Our Children's Earth Foundation v. EPA, No. 04-73032 (9th Cir., June 28, 2005) memorandum opinion.

¹² 1995 John S. Seitz memo.

The EPA may issue a CDD under the EPA's Clean Data Policy when a nonattainment area is attaining the 2015 ozone NAAQS based on the most recent available data. The EPA will determine whether the area has attained the 2015 ozone NAAQS based on available information, including air quality monitoring data for the affected area. If the CDD is made final, then certain attainment plan requirements for the area are suspended for so long as the area continues to attain the NAAQS.¹³

¹³ See 40 CFR 51.1318.

Furthermore, the suspension of the obligation to submit an attainment plan is only appropriate while the area remains in attainment of the NAAQS. A CDD under the Clean Data Policy does not serve to alter the area's nonattainment designation. The EPA will not take final action on the CDD for the Baltimore Area if the DV of a monitoring site within the Area violates the 2015 ozone NAAQS prior to final approval of the CDD. CDDs are not redesignations to attainment. For the EPA to redesignate an area to attainment the state must submit, and the EPA must approve, a redesignation request for the area that meets the requirements of CAA section 107(d)(3), which includes the approval of a maintenance plan.

IV. The EPA's Analysis of Air Quality Data

The EPA has reviewed the 2022 through 2024 quality-assured, quality-controlled, and certified ambient air quality monitoring data for ozone for the Baltimore Area, consistent with the requirements contained in 40 CFR 50.19(b) and 40 CFR part 50, appendix U, and recorded in the EPA's AQS database. Preliminary data for 2025 was also reviewed by the EPA; however, this data has not been certified.¹⁴ MD is required to certify this data by May 1, 2026.¹⁵

¹⁴ Preliminary 2025 ozone data for the Baltimore Area can be viewed at: www.epa.gov/outdoor-air-quality-data/ozone-watch.

¹⁵ See 40 CFR 58.15.

Under the EPA regulations at 40 CFR 50.19(b) and 40 CFR part 50, appendix U, the 2015 ozone NAAQS is attained when the 3-year average of the annual fourth-highest daily maximum 8-hour average ambient air quality ozone concentration (i.e., DV) does not exceed 0.070 ppm at each monitor site within the nonattainment area.¹⁶ Notably, the 2015 ozone NAAQS DVs are based solely on ozone season data.¹⁷ Ozone season is defined for each state or portion of a state at 40 CFR part 58, appendix D, section 4.1, Table D-3. The ozone season for MD runs annually from March 1 to October 31.¹⁸

¹⁶ The rounding convention in 40 CFR part 50, appendix U dictates that concentrations shall be reported in “ppm” to the third decimal place, with additional digits to the right being truncated. Thus, a computed 3-year average ozone concentration of 0.071 ppm is greater than 0.070 ppm and would exceed the standard, but a DV of 0.0709 is truncated to 0.070 and attains the 2015 ozone NAAQS.

¹⁷ See 40 CFR 51.1300(b), which refers to 40 CFR part 50, appendix U.

¹⁸ See 40 CFR 51.1300(j), which refers to 40 CFR part 58, appendix D, section 4.1, Table D-3.

The data completeness requirement in 40 CFR part 50, appendix U is met when the average percentage of days with valid ambient monitoring data for the three-year design value period is greater than 90% and no single year is less than 75% data complete. The Baltimore Area has complete data for the years 2022-2024, as shown in Table 2 in this document, with the exception of the Glen Burnie (24-003-1003) and Brooklyn Park (24-003-1004) monitors, as explained below. Preliminary completeness data for 2025 is also provided in Table 2 in this document, but as noted, this data has not been certified.¹⁹

¹⁹ Preliminary 2025 ozone data for the Baltimore Area can be viewed at: www.epa.gov/outdoor-air-quality-data/ozone-watch.

The Glen Burnie monitor, located in Anne Arundel County, was discontinued in 2024 because the site land was sold, as described in MDE's 2024 Annual Network Plan included in the docket for this action. To replace the Glen Burnie monitor, on April 1, 2024 the Brooklyn Park monitor, also located in Anne Arundel County and approximately 4 miles north of the Glen Burnie site, became operational, as described in MDE's 2025 Annual Network Plan included in the docket for this action. Based on the monitoring history for these sites and proximity to each other, the EPA determined that it is reasonable to conclude that the Glen Burnie and Brooklyn Park sites would not have exceeded the 2015 ozone NAAQS for the 2022-2024 DV.

For each monitor site in the Baltimore Area, except for the Glen Burnie and Brooklyn Park monitors, the average completeness data percentage from 2022 through 2024 is greater than 90% and no single monitor year is below 75% complete.

Table 2—Completeness Data Percentage From 2022 Through 2025 for the Baltimore Area
Location | Site name | AQS site ID | 2022 | 2023 | 2024 | 2022-2024 Average | 2025 ᵃ | 2023-2025 Average ᵃ
Anne Arundel County | Glen Burnie | 24-003-1003 | 98 | 98 | N/A | ᵃ 65 | N/A | ᵃ 33
Anne Arundel County | Brooklyn Park | 24-003-1004 | N/A | N/A | 82 | ᵇ 27 | 97 | ᵇ 60
Baltimore City | Lake Montebello | 24-510-5253 | 97 | 96 | 96 | 96 | 98 | 97
Baltimore County | Padonia | 24-005-1007 | 97 | 99 | 100 | 99 | 98 | 99
Baltimore County | Essex | 24-005-3001 | 98 | 92 | 98 | 96 | 98 | 96
Carroll County | South Carroll | 24-013-0001 | 99 | 99 | 99 | 99 | 96 | 98
Harford County | Edgewood | 24-025-1001 | 97 | 99 | 96 | 97 | 92 | 96
Harford County | Aldino | 24-025-9001 | 98 | 98 | 98 | 98 | 98 | 98
ᵃ This data is preliminary and has not been certified. Preliminary 2025 ozone data for the Baltimore Area can be viewed at: www.epa.gov/outdoor-air-quality-data/ozone-watch.
ᵇ This data is below the data completeness requirement in 40 CFR part 50, appendix U.

Table 3 in this document shows the annual fourth-highest maximum 8-hour average ozone concentrations for the Baltimore Area monitors, as well as the ozone DV for these same monitors based on the average of the annual fourth-highest daily maximum 8-hour average ozone concentrations for the 2022-2024 three-year period. As explained in section II of this document, this data excludes the exceptional event impacted monitoring days. Preliminary data for year 2025 and the 2023-2025 DV is also provided; however, the 2025 data has not been certified.²⁰

²⁰ Preliminary 2025 ozone data for the Baltimore Area can be viewed at: www.epa.gov/outdoor-air-quality-data/ozone-watch.

Table 3—Fourth-Highest 8-Hour Ozone Average Concentration (ppm) and 2022-2024 and 2023-2025 DVs (ppm) for the Baltimore Area
Location | Site name | AQS site ID | 2022 | 2023 ᵃ | 2024 | 2022-2024 DV ᵃ | 2025 ᵇ | 2023-2025 DV ᵃ ᵇ
Anne Arundel County | Glen Burnie | 24-003-1003 | 0.062 | 0.065 | N/A | ᶜ 0.063 | N/A | ᶜ 0.065
Anne Arundel County | Brooklyn Park | 24-003-1004 | N/A | N/A | 0.068 | ᶜ 0.068 | 0.066 | ᶜ 0.067
Baltimore City | Lake Montebello | 24-510-5253 | 0.068 | 0.070 | 0.071 | 0.069 | 0.067 | 0.069
Baltimore County | Padonia | 24-005-1007 | 0.065 | 0.071 | 0.071 | 0.069 | 0.068 | 0.070
Baltimore County | Essex | 24-005-3001 | 0.069 | 0.070 | 0.070 | 0.069 | 0.066 | 0.068
Carroll County | South Carroll | 24-013-0001 | 0.064 | 0.069 | 0.066 | 0.066 | 0.064 | 0.066
Harford County | Edgewood | 24-025-1001 | 0.066 | 0.073 | 0.073 | 0.070 | 0.066 | 0.070
Harford County | Aldino | 24-025-9001 | 0.068 | 0.070 | 0.070 | 0.069 | 0.066 | 0.068
ᵃ Based on the EPA's concurrence of MD's exceptional events demonstrations, this data excludes the exceptional event-influenced monitoring data on June 2, June 29-30, and July 17-18, 2023.
ᵇ This data is preliminary and has not been certified. Preliminary 2025 ozone data for the Baltimore Area can be viewed at: www.epa.gov/outdoor-air-quality-data/ozone-watch.
ᶜ This data is below the data completeness requirement in 40 CFR part 50, appendix U.

The EPA's review of these data indicates that for the 2022-2024 DV, each of the Baltimore Area monitors have valid data, meet the data completeness requirements except for the two aforementioned monitors in Anne Arundel County, and attain the standard of 0.070 ppm, excluding the exceptional event impacted monitoring days summarized in section II of this document.²¹ Preliminary data for 2025 indicate that the Baltimore Area continues to attain the standard. As a result, the EPA is able to determine that the Baltimore Area met the 2015 8-hour ozone standard and meets the requirements under the Clean Data Policy for a CDD.

²¹ Further details on MDE's exceptional events analysis and the EPA's concurrence on the demonstrations can be found in the docket for this regulatory action.

V. Proposed Action

The EPA is proposing to determine that the Baltimore Area has attained the 2015 ozone NAAQS and meets the requirements under the Clean Data Policy for a CDD. This proposed determination is based upon complete, quality-assured, quality-controlled, and certified ambient air monitoring data that show the Baltimore Area has monitored attainment of the 2015 ozone NAAQS for the 2022-2024 DV monitoring period. This proposed determination is based upon the EPA's evaluation of and concurrence on portions of MD's exceptional events demonstrations. Notably, preliminary data from 2025 indicate that the Baltimore Area continues to attain the standard. As provided in 40 CFR 51.1318, if the EPA finalizes this CDD, it would suspend the requirements for the Baltimore Area to submit attainment demonstrations and associated RACM, RFP plans, and contingency measures under CAA section 172(c)(9), and any other planning state implementation plan (SIP) revision related to attainment of the 2015 ozone NAAQS for the Baltimore Area, for so long as the Area continues to attain the standard.

Finalizing the CDD does not constitute a redesignation of the Baltimore Area to attainment for the 2015 ozone NAAQS under CAA section 107(d)(3). This action also does not involve approving any maintenance plan for the Baltimore Area and does not determine that the Baltimore Area has met all the requirements for redesignation under the CAA, including that the attainment be due to permanent and enforceable measures. Therefore, the designation status of the Baltimore Area will remain nonattainment for the 2015 ozone NAAQS until such time as MD submits a request for redesignation pursuant to 107(d)(3) of the CAA and the EPA determines that the Area meets the CAA requirements for redesignation to attainment and takes action to redesignate the Area.

The EPA also proposes to take final agency action on portions of exceptional events requests for June 2, June 29-30, and July 17-18, 2023, submitted by MDE on February 2, 2024, and concurred on by the EPA on November 12, 2025.

The EPA is soliciting public comments on the issues discussed in this document. These comments will be considered before taking final action.

V. Statutory and Executive Order Reviews

This rulemaking proposes to make a clean data determination based on air quality data and would, if finalized, result in the suspension of certain Federal requirements and would not impose any additional requirements. For that reason, this proposed action:

• Is not a significant regulatory action subject to review by the Office of Management and Budget under Executive Orders 12866 (58 FR 51735, October 4, 1993);

• Executive Order 14192 (90 FR 9065, February 6, 2025) does not apply because this action is exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act;

In addition, this proposed CDD for the Baltimore Area for the 2015 ozone NAAQS does not have tribal implications as specified by Executive Order 13175 (65 FR 67249, November 9, 2000), because this action is not approved to apply in Indian country located in the State, and the EPA notes that it will not impose substantial direct costs on tribal governments or preempt tribal law.

List of Subjects in 40 CFR Part 52

Environmental protection, Air pollution control, Incorporation by reference, Nitrogen dioxide, Ozone, Reporting and recordkeeping requirements, Volatile organic compounds.

Amy Van Blarcom-Lackey,
Regional Administrator, Region III.

[FR Doc. 2026-01314 Filed 1-22-26; 8:45 am]

BILLING CODE 6560-50-P